DEPARTMENT OF THE INTERIOR

Bureau of Land Management

[LLWY-957400-11-L19100000-BJ0000-LRCMK0R04770]

Notice of Filing of Plats of Survey, Wyoming

AGENCY: Bureau of Land Management, Interior.

ACTION: Notice of Filing of Plats of Survey, Wyoming

SUMMARY: The Bureau of Land Management (BLM) is scheduled to file the plats of survey of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: This survey was executed at the request of the Bureau of Indian Affairs and is necessary for the management of these lands. The lands surveyed are:

The plat and field notes representing the dependent resurvey of a portion of the subdivisional lines and a portion of the subdivision of section 21, and the survey of the subdivision of section 21 and meander of the present left bank of North Fork Popo Agie River, and the metes and bounds survey of Lots 5 and 6, section 21, Township 2 South, Range 1 West, Wind River Meridian, Wyoming, Group No. 817, was accepted February 24, 2011.

Copies of the preceding described plats and field notes are available to the public at a cost of $1.10 per page.

Dated: February 28, 2011.
John P. Lee,
Chief Cadastral Surveyor, Division of Support Services.

[FR Doc. 2011-4942 Filed 3-3-11; 8:45 am]

BILLING CODE 4310-22-P